DEPARTMENT OF HEALTH AND HUMAN SERVICES

National Institutes of Health

National Institute on Deafness and Other Communication Disorders; Notice of Meeting

Pursuant to section 10(d) of the Federal Advisory Committee Act, as amended (5 U.S.C. Appendix 2), notice is hereby given of a meeting of the Board of Scientific Counselors, NIDCD.

The meeting will be open to the public as indicated below, with attendance limited to space available. Individuals who plan to attend and need special assistance, such as sign language interpretation or other reasonable accommodations, should notify the Contact Person listed below in advance of the meeting.

The meeting will be closed to the public as indicated below in accordance with the provisions set forth in section 552b(c)(6), Title 5 U.S.C., as amended for the review, discussion, and evaluation of individual intramural programs and projects conducted by the National Institute on Deafness and Other Communication Disorders, including consideration of personnel qualifications and performance, and the competence of individual investigators, the disclosure of which would constitute a clearly unwarranted invasion of personal privacy.

Name of Committee: Board of Scientific Counselors, NIDCD.

Date: October 19-20, 2000.

Open: October 19, 2000, 4:30 p.m. to 5 p.m.

Agenda: Report of the Director, NIDCD, report of the Scientific Director, NIDCD.

Place: 5 Research Court, Conference Room 2A07, Rockville, MD 20850.

Closed: October 19, 2000, 5 p.m. to 7:15 p.m.

Agenda: To review and evaluate personal qualifications and performance, and competence of individual investigators.

Place: 5 Research Court, Conference Room 2A07, Rockville, MD 20850.

Closed: October 20, 2000, 8 a.m. to 4 p.m.

Agenda: To review and evaluate personal qualifications and performance, and competence of individual investigators.

Place: 5 Research Court, Conference Room 2A07, Rockville, MD 20850.

Contact Person: Robert J. Wenthold, PhD, Director, Division of Intramural Research, National Institute on Deafness and Other Communication Disorders, 5 Research Court, Conference Room 2B28, Rockville, MD 20852, 301-402-2829.

(Catalogue of Federal Domestic Assistance Program Nos. 93.173, Biological Research Related to Deafness and Communicative Disorders, National Institutes of Health, HHS)
Dated: August 29, 2000.
Anna Snouffer,
Acting Director, Office of Federal Advisory Committee Policy.

[FR Doc. 00-22871 Filed 9-6-00; 8:45 am]

BILLING CODE 4140-01-M